DEPARTMENT OF HOMELAND SECURITY

Coast Guard

33 CFR Part 83

[Docket No. USCG-2017-1002]

Inland Navigation Rules; Technical Amendment

AGENCY: Coast Guard, DHS.

ACTION: Final rule.

SUMMARY: This rule makes technical, non-substantive amendments to remove the word “danger” from the Coast Guard's Inland Navigation Rule regarding Maneuvering and Warning Signals, to align this regulation with the International Maritime Organization's International Regulations for Preventing Collisions at Sea, 1972.

DATES: This final rule is effective January 24, 2018.

FOR FURTHER INFORMATION CONTACT: For information about this document call or email LCDR M. J. Walter, Coast Guard; telephone 202-372-1565, email cgnav@uscg.mil.

SUPPLEMENTARY INFORMATION:

I. Basis, Purpose, and Good Cause Exception to Notice and Comment Requirements

This rule makes technical, non-substantive changes in 33 CFR 83.34, “Maneuvering and warning signals (Rule 34),” to provide greater clarity and align this regulation with the International Maritime Organization's International Regulations for Preventing Collisions at Sea, 1972 (72 COLREGS). This rule does not create or change any substantive requirements. This final rule is issued under the authority of 5 U.S.C. 553; 14 U.S.C. 2(3); 33 U.S.C. 2071 and Department of Homeland Security Delegation No. 0170.1.

We did not publish a notice of proposed rulemaking for this rule. The Coast Guard finds that notice and comment procedures are unnecessary under 5 U.S.C. 553(b)(B) as this rule consists only of technical and editorial corrections, and that these changes will have no substantive effect on the public. Under 5 U.S.C. 553(d)(3), the Coast Guard finds that, for the same reasons, good cause exists for making this final rule effective upon publication in the Federal Register.

II. Discussion of Rule

This rule revises 33 CFR 83.34(a)(ii) and 83.34(c)(ii) by removing the word “danger.” After removing the word “danger” the remaining text in each paragraph is “signal prescribed in paragraph (d) of this Rule.” This change will conform this section to the International Regulations for Preventing Collisions at Sea (72 COLREGS), which the United States has ratified. The word “danger”, describing “signal”, does not appear in Rule 34 of the 72 COLREGS and the Inland Navigation Rules do not define the term “danger signal.” Therefore, to remain consistent with our 2014 final rule amending the Inland Navigation Rules to align these regulations as much as possible with the 72 COLREGS (79 FR 37898, July 2, 2014), we are deleting the term “danger” from two locations in § 83.34 that were inadvertently omitted from our 2014 rulemaking. Removal of the word “danger” from this regulation, in addition to alignment with the 72 COLREGS, also alleviates potential ambiguity. The signal described in Rule 34(d) is specific to a vessel that does not clearly understand the intentions or actions of another vessel, or is in doubt if sufficient action is being taken to avoid collision. It is a signal of warning as the title of Rule 34 indicates: “Maneuvering and warning signals.” Vessels may use this signal even when “danger” is not present.

This rule also changes the heading of part 83 from “Rules” to “Navigational Rules.” This is a clarifying change only and is intended to alert the reader about the content of this part of the CFR.

III. Regulatory Analyses

We developed this rule after considering numerous statutes and Executive orders related to rulemaking. Below we summarize our analyses based on these statutes or Executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (“Reducing Regulation and Controlling Regulatory Costs”) directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. Because this rule is not a significant regulatory action, this rule is exempt from the requirements of Executive Order 13771. See OMB's Memorandum “Guidance Implementing Executive Order 13771, entitled “Reducing Regulation and Controlling Regulatory Costs” (April 5, 2017). This rule involves non-substantive changes and internal agency practices and procedures; it will not impose any additional costs on the public. The benefit of the non-substantive changes is increased clarity of regulations.

B. Small Entities

This rule is not preceded by a notice of proposed rulemaking and, therefore is exempt from the requirements of the Regulatory Flexibility Act (5 U.S.C. 601-612). The Regulatory Flexibility Act does not apply when notice and comment rulemaking is not required.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new or modified collection of information under the Paperwork Reduction Act of 1995, 44 U.S.C. 3501-3520.

E. Federalism

A rule has implications for federalism under Executive Order 13132 (“Federalism”) if it has a substantial direct effect on State or local governments and would either preempt State law or impose a substantial direct cost of compliance on them. We have analyzed this rule under Executive Order 13132 and have determined that it does not have implications for federalism.

F. Unfunded Mandates Reform Act

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under Executive Order 12630 (“Governmental Actions and Interference with Constitutionally Protected Property Rights”).

H. Civil Justice Reform

This rule meets applicable standards in sections 3(a) and 3(b)(2) of Executive Order 12988, (“Civil Justice Reform”), to minimize litigation, eliminate ambiguity, and reduce burden.

I. Protection of Children

We have analyzed this rule under Executive Order 13045 (“Protection of Children from Environmental Health Risks and Safety Risks”). This rule is not an economically significant rule and would not create an environmental risk to health or risk to safety that might disproportionately affect children.

J. Indian Tribal Governments

This rule does not have tribal implications under Executive Order 13175 (“Consultation and Coordination with Indian Tribal Governments”), because it would not have a substantial direct effect on one or more Indian tribes, on the relationship between the Federal Government and Indian tribes, or on the distribution of power and responsibilities between the Federal Government and Indian tribes.

K. Energy Effects

We have analyzed this rule under Executive Order 13211 (“Actions Concerning Regulations That Significantly Affect Energy Supply, Distribution, or Use”). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

M. Environment

We have analyzed this rule under Department of Homeland Security Management Directive 023-01 and Commandant Instruction M16475.lD (COMDTINST M16475.1D), which guide the Coast Guard in complying with the National Environmental Policy Act of 1969 (42 U.S.C. 4321-4370f), and have concluded that this action is one of a category of actions that do not individually or cumulatively have a significant effect on the human environment. This rule is categorically excluded under section 2.B.2 and figure 2-1, paragraphs (34)(a) of the Instruction. This final rule involves amendments to regulations that are editorial.

List of Subjects in 33 CFR Part 83

Navigation (water), Waterways.

For the reasons discussed in the preamble, the Coast Guard amends 33 CFR part 83 as follows:

PART 83—NAVIGATION RULES

1. The authority citation for part 83 continues to read as follows:

Authority: Sec. 303, Pub. L. 108-293, 118 Stat. 1042 (33 U.S.C. 2071); Department of Homeland Security Delegation No. 0170.1.

2. Revise the heading for part 83 to read as set forth above.

§ 83.34 [Amended]

3. Amend § 83.34 as follows:

a. In paragraph (a)(ii), remove the word “danger”; and

b. In paragraph (c)(ii), remove the word “danger”.

Katia Kroutil,
Chief, Office of Regulations and Administrative Law.

[FR Doc. 2018-01304 Filed 1-23-18; 8:45 am]

BILLING CODE 9110-04-P